EXPORT-IMPORT BANK

Notice of Open Special Meeting of the Sub-Saharan Africa Advisory Committee (SAAC) of the Export-Import Bank of the United States (Export-Import Bank).

SUMMARY: The Sub-Saharan Africa Advisory Committee was established by Public Law 105-121, November 26, 1997, to advise the Board of Directors on the development and implementation of policies and programs designed to support the expansion of the Bank's financial commitments in Sub-Saharan Africa under the loan, guarantee, and insurance programs of the Bank. Further, the committee shall make recommendations on how the Bank can facilitate greater support by U.S. commercial banks for trade with Sub-Saharan Africa.

Time and Place: September 27, 2013 at 11:00 a.m. to 1:00 p.m. The meeting will be held at the Export-Import Bank in Room 326, 811 Vermont Avenue NW., Washington, DC 20571.

Agenda: Sub-Saharan Africa Advisory Committee presentation to the Export-Import Bank's Board of Directors on Strategy Recommendations for Increasing Export-Import Bank Transactions in Sub-Saharan Africa.

Public Participation: The meeting will be open to public participation, and the last 10 minutes will be set aside for oral questions or comments. Members of the public may also file written statement(s) before or after the meeting. If any person wishes auxiliary aids (such as a sign language interpreter) or other special accommodations, please contact, prior to September 27, 2013, Richard Thelen, 811 Vermont Avenue NW., Washington, DC 20571, Voice: (202) 565-3515 or TDD (202) 565-3377.

FOR FURTHER INFORMATION CONTACT: For further information contact Andrea Bernardo, 811 Vermont Avenue NW., Washington, DC 20571, (202) 565-3431.

Cristopolis Dieguez,
Program Specialist, Office of the General Counsel.

[FR Doc. 2013-22250 Filed 9-12-13; 8:45 am]

BILLING CODE 6690-01-P